UNIFORMED SERVICES UNIVERSITY OF THE HEALTH SCIENCES

Meeting Notice

AGENCY HOLDING THE MEETING: Uniformed Services University of the Health Sciences

TIME AND DATE: 8 a.m. to 4 p.m., November 14, 2001.

PLACE: United States Naval Academy, Rickover Hall, Room 301, Annapolis, MD 21402.

STATUS: Open—under “Government in the Sunshine Act” (5 U.S.C. 552b(e)(3)).

MATTERS TO BE CONSIDERED:

8 a.m. Meeting—Board of Regents

(1) Approval of Minutes—August 14, 2001

(2) Faculty Matters

(3) Departmental Reports

(4) Financial Report

(5) Report—President, USUHS

(6) Report—Dean, School of Medicine

(7) Report—Dean, Graduate School of Nursing

(8) Comments—Chairman, Board of Regents

(9) New Business

CONTACT PERSON FOR MORE INFORMATION: Mr. Bobby D. Anderson, Executive Secretary, Board of Regents, (301) 295-3116.

Dated: October 12, 2001.
Linda Bynum,
OSD Federal Register Liaison Officer, Department of Defense.

[FR Doc. 01-26235 Filed 10-15-01; 11:21 am]

BILLING CODE 5001-08-M